ENVIRONMENTAL PROTECTION AGENCY

[FRL OP-OFA-061]

Environmental Impact Statements; Notice of Availability

Responsible Agency: Office of Federal Activities, General Information 202-564-5632 or https://www.epa.gov/nepa.

Weekly receipt of Environmental Impact Statements (EIS) Filed March 7, 2023 10 a.m. EST Through March 13, 2023 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230040, Final, FERC, MN, Northern Lights 2023 Expansion Project, Review Period Ends: 04/17/2023, Contact: Office of External Affairs 866-208-3372

Amended Notice

EIS No. 20220143, Draft, USACE, NY, Draft Integrated Feasibility Report and Tier 1 Environmental Impact Statement, New York-New Jersey Harbor and Tributaries Coastal Storm Risk Management Feasibility Study, Comment Period Ends: 03/31/2023, Contact: Cheryl Alkemeyer 917-790-8723

Revision to FR Notice Published 12/16/2022; Extending the Comment Period from 03/07/2023 to 03/31/2023.

Dated: March 13, 2023.
Cindy S. Barger,
Director, NEPA Compliance Division, Office of Federal Activities.

[FR Doc. 2023-05481 Filed 3-16-23; 8:45 am]

BILLING CODE 6560-50-P